DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the intention of the Foreign Agricultural Service to extend the currently approved information collection for the USDA's Pima Agriculture Cotton Trust Fund.

DATES: Comments on this notice must be received by October 16, 2023 to be assured of consideration.

ADDRESSES: You may send comments, identified by the OMB Control number 0551-0044, by any of the following methods:

• Federal eRulemaking Portal: http://www/regulations.gov. This portal enables respondents to enter short comments or attach a file containing lengthier comments.

• Email: PODadmin@usda.gov. Include OMB Control Number 0551-0044 in the subject line of the message.

• Mail, Courier, or Hand Delivery: Curt Alt, U.S. Department of Agriculture, Foreign Agricultural Service, 1400 Independence Avenue SW, Room 6512, Washington, DC 20250.

Instructions: All submissions received must include the agency name and OMB Control Number for this notice.

FOR FURTHER INFORMATION CONTACT: Curt Alt, (202) 690-4784, PODAdmin@usda.gov.

SUPPLEMENTARY INFORMATION:

Title: Pima Agriculture Cotton Trust Fund.

OMB Control Number: 0551-0044.

Expiration Date of Approval: April 30, 2024.

Type of Request: Extension of a currently approved information collection.

Abstract: This information collection is required for affidavits submitted to FAS for claims against the Pima Agriculture Cotton Trust Fund. Claimants of the Pima Agriculture Cotton Trust Fund will be required to electronically submit a notarized affidavit to FAS to request a distribution from the Pima Agriculture Cotton Trust Fund. The affidavits will be available on the FAS website under the Pima Agriculture Cotton Trust Fund program section.

Estimate of Burden: Public reporting burden for this collection of information is estimated to average 1 hour per response for affidavits related to the Pima Agriculture Cotton Trust Fund.

Type of Respondents: Under the Pima Agriculture Cotton Trust Fund there are three groups of potential respondents, all of whom must meet the requirements of Section 12314 of the Agricultural Act of 2014 (Pub. L. 113-79), as amended by the Agriculture Improvement Act of 2018 (Pub. L. 115-334) in order to be eligible to receive a payment: (1) One or more nationally recognized associations established for the promotion of pima cotton for use in textile and apparel goods; (2) Certain yarn spinners of pima cotton that produced ring spun cotton yarns in the United States from pima cotton during the prior calendar year; (3) Manufacturers who cut and sew cotton shirts in the United States who certify that they used imported cotton fabric during the prior calendar year.

Estimated Number of Respondents: 9.

Estimated Number of Responses per Respondent: 1.

Estimated Total Annual Burden of Respondents: 9 hours.

Copies of this information collection may be obtained from Dacia Rogers, the Agency Information Collection Coordinator, at Dacia.Rogers@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact RARequest@usda.gov.

Daniel Whitley,
Acting Administrator, Foreign Agricultural Service.

[FR Doc. 2023-17722 Filed 8-16-23; 8:45 am]

BILLING CODE 3410-10-P